DEPARTMENT OF AGRICULTURE

Rural Housing Service

[Docket No. RHS-21-MFH-0011]

Notice of Solicitation of Applications for Section 514 Off-Farm Labor Housing Loans and Section 516 Off-Farm Labor Housing Grants for New Construction for Fiscal Year 2022

AGENCY: Rural Housing Service, Department of Agriculture.

ACTION: Notice and correction of a previous notice.

SUMMARY: The Rural Housing Service (RHS), an agency of the United States Department of Agriculture (USDA), published a notice of solicitation of applications (NOSA) in the Federal Register on February 2, 2021, entitled “Notice of Solicitation of Applications for Section 514 Off-Farm Labor Housing Loans and Section 516 Off-Farm Labor Housing Grants for New Construction for Fiscal Year 2021.” The Notice described the methods used to distribute funds, the pre-application and final application processes, and submission requirements. The purpose of this Notice is to announce the second round of solicitation of competitive pre-applications. Additionally, this notice corrects inadvertent errors published in NOSA on February 2, 2021 in the Federal Register.

DATES: Eligible pre-applications submitted to the Production and Preservation Division, Processing and Report Review Branch for this Notice, will be accepted until November 1, 2022, 12:00 p.m., Eastern Standard Time. See the SUPPLEMENTARY INFORMATION section of the NOSA published in the Federal Register on February 2, 2021, entitled “Notice of Solicitation of Applications for Section 514 Off-Farm Labor Housing Loans and Section 516 Off-Farm Labor Housing Grants for New Construction for Fiscal Year 2021” for additional information.

ADDRESSES: Applications to this Notice must be submitted electronically to the Production and Preservation Division, Processing and Report Review Branch. Specific instructions on how to submit applications electronically are provided under the SUPPLEMENTARY INFORMATION section of the NOSA published in the Federal Register on February 2, 2021, entitled “Notice of Solicitation of Applications for Section 514 Off-Farm Labor Housing Loans and Section 516 Off-Farm Labor Housing Grants for New Construction for Fiscal Year 2021” for additional information.

FOR FURTHER INFORMATION CONTACT: Abby Boggs, Branch Chief, Program Support Branch, Production and Preservation Division, Multifamily Housing Programs, Rural Development, United States Department of Agriculture, via email: abby.boggs@usda.gov or phone at: (615) 490-1371.

SUPPLEMENTARY INFORMATION: The amount of program dollars available will be determined by yearly appropriations. Available loan and grant funding amounts can be found at the following link: https://www.rd.usda.gov/programs-services/farm-labor-housing-direct-loans-grants. Expenses incurred in developing preapplications and final applications will be at the applicant's sole risk.

Key Priorities

The Agency encourages applicants to consider projects that will advance the following key priorities:

• Assisting Rural communities recover economically from the impacts of the COVID-19 pandemic, particularly disadvantaged communities.

• Ensuring all rural residents have equitable access to RD programs and benefits from RD funded projects.

• Reducing climate pollution and increasing resilience to the impacts of climate change through economic support to rural communities.

Executive Summary

As required by 7 CFR 3560.556, RHS is required to publish in the Federal Register, an annual NOSA for each round of the Section 514 Off-Farm Labor Housing Loans and Section 516 Off-Farm Labor Housing Grants for New Construction program. The first notice was published on February 2, 2021 in the Federal Register, at 86 FR 7840. The Notice announced the initial opening round and described the method used to distribute funds, the pre-application and final application process, and submission requirements.

There are three rounds of pre-application submissions and selections for this program until November 1, 2022. For details, applicants should refer to the full funding announcement notice published on February 2, 2021, in the Federal Register at 86 FR 7840. This notice announces the second round that opens on September 1, 2021. The available loan and grant funding will be posted to the RHS website by August 2, 2021. Pre-applications must be submitted by November 1, 2021, 12:00 p.m., Eastern Standard Time. RHS will notify applicants by January 4, 2022. Pre-application selections will be posted to the RHS website by March 1, 2022. Final applications must be submitted by May 2, 2022, 12:00 p.m., Eastern Standard Time. Funds must be obligated by September 30, 2022.

There will be a third opening round on September 1, 2022, before which another announcement Notice will be published in the Federal Register.

Correction

The following corrections remedy inadvertent errors in the NOSA published on February 2, 2021 in the Federal Register:

1. In the Federal Register of February 2, 2021, in FR Doc. 2021-02193, on page 7842, in the second column, correct the first sentence in section (a) to read:

(a) To be eligible to receive a Section 514 loan for Off-FLH, the applicant must meet the requirements of 7 CFR 3560.555(a) and be a broad-based non- profit organization; a nonprofit organization of farmworkers, a Federally recognized Indian tribe, a community organization, or an Agency or political subdivision of state or local Government, and must meet the requirements of § 3560.55, excluding § 3560.55(a)(6).

2. On page 7842, in the second column, correct the first sentence in section (b) to read:

(b) To be eligible to receive a Section 516 grant for Off-FLH, the applicant must meet the requirements of 7 CFR 3560.555(b) and be a broad-based non- profit organization; a nonprofit organization of farmworkers, a federally recognized Indian tribe, a community organization, or an agency or political subdivision of State or local Government, and must meet the requirements of § 3560.55, excluding § 3560.55(a)(6).

3. On page 7843, at the bottom of the second column, correct section (b) to read:

(b) RHS will host workshops on August 25, 2021 and August 25, 2022 to discuss the application process, the borrower's responsibilities under the Off-FLH program, among other topics. Requests to attend the workshop(s) can be sent to the following email address: Off-FLHapplication@usda.gov. The email must contain the following information:

(1) Subject line: “Off-FLH Workshop.”

(2) Body of email: Borrower Name, Project Name, Borrower Contact Information, Project State.

(3) Request language: “Please reply with information for attending next week's Off-FLH Workshop.”

Requests will be accepted beginning on August 18th of the corresponding year.

4. On page 7844, in the second column, remove section (4) and redesignate the subsequent sections 5 through 20 as 4 through 19.

5. On page 7845, in the third column, correct the numbering after section (20) to redesignate section (22) as (20), section (23) as (21), and section (24) as (22).

6. On page 7846, in the second column, add a sentence at the end of section (vii) to read as follows:

Applicants are strongly encouraged to use the Active Partners Performance System (APPS) available on HUD's website to electronically submit the Form HUD 2530 for HUD staff review and approval, if applicable. If approval obtained, the applicant would submit the review from HUD indicating approval in the application. The website can be found at: https://www.hud.gov/program_offices/housing/mfh/apps/appsmfhm.

7. On page 7852, in the first column, add a section (31) to read as follows:

(31) At least seven business days prior to the application deadline for the applicable funding round, the applicant must email RHS a request to submit an electronic payment of $24 to pay for credit reports obtained by RHS. The email must be sent to the following address: Off-FLHapplication@usda.gov. The email must contain the following information:

(i) Subject line: “Off-FLH Application Credit Report Payment.”

(ii) Body of email: Borrower Name, Project Name, Borrower Contact Information, Project State.

(iii) Request language: “Please email me a link to submit the credit report fee.”

Within four business days after the email request for a link to submit the credit report fee is received, you will receive an email containing a secure link to enter your bank routing and account number for your payment. If the payment is not submitted by the application deadline for the applicable funding round, the application will be considered incomplete and will not be considered for funding.

Chadwick Parker,
Acting Administrator, Rural Housing Service.

[FR Doc. 2021-16472 Filed 8-2-21; 8:45 am]

BILLING CODE 3410-XV-P